NUCLEAR WASTE TECHNICAL REVIEW BOARD

Board Meeting

October 20-21, 2015—The U.S. Nuclear Waste Technical Review Board will hold an international technical workshop on the potential deep borehole disposal of high-level radioactive waste.

Pursuant to its authority under section 5051 of Public Law 100-203, Nuclear Waste Policy Amendments Act of 1987, and in accordance with its mandate to review the technical and scientific validity of U.S. Department of Energy (DOE) activities related to implementing the Nuclear Waste Policy Act of 1982 (NWPA), the U.S. Nuclear Waste Technical Review Board will hold an international technical workshop on Tuesday, October 20, and Wednesday, October 21, 2015, to evaluate technical and scientific issues associated with the potential use of deep boreholes to dispose of some radioactive wastes. The workshop is open to the public and there is no charge for attendance.

In June 2015, the Board issued a report: Evaluation of Technical Issues Associated with the Development of a Separate Repository for U.S. Department of Energy-Managed High-Level Radioactive Waste and Spent Nuclear Fuel. In its report, the Board reviewed two DOE reports, one of which was released in October 2014 and the other in March 2015. The DOE reports recommended implementing a strategy for disposal of some DOE-managed high-level radioactive waste (HLW), and possibly some DOE-managed spent nuclear fuel (SNF), in a separate geologic repository rather than commingling the DOE wastes in a single repository with commercial HLW and SNF. The October 2014 report also recommended that DOE retain the flexibility to consider options for disposal of smaller DOE-managed waste forms in deep boreholes rather than in a mined, geologic repository. DOE identified cesium and strontium capsules as candidates for disposal in deep boreholes.

The Board's October workshop will look at issues associated with the design and implementation of a program for deep borehole disposal of solid radioactive wastes. In particular, the objective of the workshop will be to identify the technical and scientific issues associated with DOE's research and development program to assess the viability of the deep borehole disposal concept and, more broadly, to identify issues associated with implementation of deep borehole disposal.

The workshop will be held at the Embassy Suites Hotel, 1250 22nd Street NW., Washington, DC 20037; (Tel) 202-857-3388, (Fax) 202-293-3173. A block of sleeping rooms has been reserved at the hotel for meeting attendees. To make a reservation, attendees may call 1 800-445-8667. The group code name for the workshop is “NUC.” Reservations also may be made on the hotel Web site: http://embassysuites.hilton.com/en/es/groups/personalized/W/WASDNES-NUC-20151019/index.jhtml. Reservations must be made by Monday, September 28, 2015, to receive the group rate.

The first day of the workshop will begin at 8:00 a.m. and is scheduled to wind up at about 5:30 p.m. The agenda on Tuesday will begin with presentations by DOE managers and experts on DOE's plans for studying deep borehole disposal, including a field test program being planned by DOE to provide information on the geoscience of the deep borehole disposal concept and the technical issues associated with its implementation. Following the DOE presentations, panels of experts from this and other countries will discuss issues such as:

• Expected hydrogeological and geochemical conditions at the proposed disposal depth and their associated characterization methods;

• Waste forms to be disposed of, durability of waste-disposal canister and overpack materials, and effectiveness of borehole seals;

• Challenges to deep drilling in crystalline rocks and to operations related to emplacing the waste canisters in boreholes;

• Regulatory framework for deep borehole disposal of solid radioactive wastes;

• Advantages and disadvantages of deep borehole disposal compared with other disposal concepts.

There will be a lunchtime presentation on Tuesday titled “International Perspective on Deep Borehole Disposal.” Those who wish to attend the lunchtime presentation should send an email no later than October 15 to October2015Workshop@nwtrb.gov with the words “Working Lunch RSVP” in the subject line. Information on arrangements for the lunch will be provided in response to the email.

The panel discussions will resume at 8:00 a.m. on Wednesday and continue throughout the day until the conclusion of the workshop at approximately 5:00 p.m.

Opportunities for public comment will be provided on both days before the lunch break and at the end of the day. It may be necessary to set a time limit on individual remarks in order to maintain the schedule, but written comments of any length may be submitted during and after the workshop and will be entered into the record of the meeting posted on the Board's Web site. The meeting will also be webcast through a link that will be posted on the Board's Web site.

The workshop agenda will be available on the Board's Web site (www.nwtrb.gov) approximately one week before the meeting. The transcript of the workshop discussions, the presentation materials, and any comments and other documents submitted for the record will be available on the Board's Web site after November 20, 2015. The Webcast recording also will be available on the Board's Web site for a period of one year after the workshop.

The Board was established in the 1987 Nuclear Waste Policy Amendments Act as an independent federal agency in the Executive branch to perform an ongoing objective evaluation of the technical and scientific validity of activities undertaken by DOE related to implementing the NWPA. Board members are experts in their fields and are appointed by the President from a list of candidates submitted by the National Academy of Sciences. The Board reports its findings, conclusions, and recommendations to Congress and the Secretary of Energy. Board reports, correspondence, congressional testimony, and meeting transcripts and materials are posted on the Board's Web site.

For information on the workshop, contact Bret Leslie at leslie@nwtrb.gov, Roberto Pabalan at pabalan@nwtrb.gov, or Karyn Severson at severson@nwtrb.gov. For information on meeting logistics, contact Linda Coultry at coultry@nwtrb.gov. They can be reached by phone at 703-235-4473.

Dated: September 17, 2015.
Nigel Mote,
Executive Director, U.S. Nuclear Waste Technical Review Board.

[FR Doc. 2015-24043 Filed 9-22-15; 8:45 am]

BILLING CODE P